DEPARTMENT OF ENERGY

Notice of Request for Information (RFI) on Research and Development Opportunities for Building Energy Modeling

AGENCY: Office of Energy Efficiency and Renewable Energy, Department of Energy (DOE).

ACTION: Request for information (RFI).

SUMMARY: The U.S. Department of Energy (DOE) invites public comment on its Request for Information (RFI). The Office of Energy Efficiency and Renewable Energy (EERE) Building Technologies Office (BTO) seeks input from the public about research and development opportunities in building energy modeling (BEM). In particular, BTO is interested in feedback on planned research and development initiatives and their prioritization, on program scope, and on data-sets, metrics and targets for assessing program effectiveness and impact.

DATES: Responses to the RFI must be received by 5:00 p.m. (ET) on June 3, 2019.

ADDRESSES: Interested parties are to submit comments electronically to BTO_BEM_RDO@ee.doe.gov. Include “DRAFT Research and Development Opportunities for Building Energy Modeling” in the subject of the title. Responses must be provided as attachments to an email. It is recommended that attachments with file sizes exceeding 25MB be compressed (i.e., zipped) to ensure message delivery. Responses must be provided as a Microsoft Word (.docx) attachment to the email, and no more than 10 pages in length, 12 point font, 1 inch margins. Only electronic responses will be accepted. The complete RFI document is located at https://eere-exchange.energy.gov/.

Please identify your answers by responding to a specific question or topic if applicable. Within the Report, Topics, Barriers, and Initiatives are numbered. In your response, please include these numbers in your responses. Respondents may answer as many or as few questions as they wish.

BTO will not respond to individual submissions or publish publicly a compendium of responses.

A response to this RFI will not be viewed as a binding commitment to develop or pursue the project or ideas discussed.

Respondents are requested to provide the following information at the start of their response to this RFI:

• Institution name and website

• Institution type (e.g., university, utility, non-profit organization, small business, etc.)

• BEM stakeholder type (e.g., developer, user, client)

• Institution contact name and email address

FOR FURTHER INFORMATION CONTACT: Questions may be addressed to BTO_BEM_RDO@ee.doe.gov or Amir Roth, Amir.Roth@EE.Doe.Gov, (202) 287.1694. Further instruction can be found in the RFI document posted on EERE Exchange.

SUPPLEMENTARY INFORMATION: The purpose of this RFI is to solicit feedback from industry, academia, research laboratories, government agencies, and other stakeholders on BTO's BEM program and its future directions and priorities. To clarify these, BTO has developed a report that is structured around six focus areas (the BEM value proposition, predictive accuracy of BEM, core modeling capabilities, workflow integration and automation, the BEM data ecosystem, and BEM professionals). The report identifies barriers to the increased adoption of BEM and proposing a set of initiatives to address them. BTO is requesting feedback on each of these barriers, the associated initiatives, as well as barriers and initiatives that have not been identified. BTO is also requesting feedback on datasets, metrics, and targets for assessing the impact and progress of the BEM industry and its own BEM program. The RFI is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination. Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC on April 16, 2019.
David Nemtzow,
Director, Building Technologies Office.

[FR Doc. 2019-08266 Filed 4-23-19; 8:45 am]

BILLING CODE 6450-01-P